DEPARTMENT OF COMMERCE

National Oceanic and Atmospheric Administration

50 CFR Part 679

[Docket No. 9912223348-9348-01; I.D. 012700C]

Fisheries of the Exclusive Economic Zone Off Alaska; Pollock in the Gulf of Alaska

AGENCY: National Marine Fisheries Service (NMFS), National Oceanic and Atmospheric Administration (NOAA), Commerce.

ACTION: Inseason adjustment; request for comments.

SUMMARY: NMFS is adjusting the interim 2000 total allowable catch (TAC) of pollock in the Western and Central Regulatory Areas of the Gulf of Alaska (W/C GOA). This action is necessary to adjust the harvest of pollock, that, based on the best available scientific information, has been found by NMFS to be incorrectly specified.

DATES: Effective 1200 hrs, Alaska local time (A.l.t.), January 27, 2000, until 1200 hrs A.l.t. July 19, 2000. Comments must be received at the following address no later than 4:30 p.m., A.l.t., February 17, 2000.

ADDRESSES: Comments may be mailed to Sue Salveson, Assistant Regional Administrator, Sustainable Fisheries Division, Alaska Region, NMFS, P.O. Box 21668, Juneau, AK 99802-1668, Attn: Lori Gravel. Comments will not be accepted if submitted via e-mail or Internet. Hand delivery or courier delivery of comments may be sent to the Federal Building, 709 West 9th Street, Room 453, Juneau, AK 99801.

FOR FURTHER INFORMATION CONTACT: Andrew Smoker, 907-586-7228.

SUPPLEMENTARY INFORMATION: NMFS manages the groundfish fishery in the GOA exclusive economic zone according to the Fishery Management Plan for Groundfish of the Gulf of Alaska (FMP) prepared by the North Pacific Fishery Management Council under authority of the Magnuson-Stevens Fishery Conservation and Management Act. Regulations governing fishing by U.S. vessels in accordance with the FMP appear at subpart H of 50 CFR part 600 and 50 CFR part 679.

The interim 2000 pollock TAC in the W/C GOA as amended by the emergency interim rule implementing Steller sea lion protection measures for the pollock fisheries off Alaska (65 FR 3892, January 25, 2000) are as follows: Western Regulatory Area (610) 5,465 metric tons (mt), Central Regulatory Area (620 outside Shelikof Strait) 3,252 mt, Central Regulatory Area (630 outside Shelikof Strait) 4,278 mt, and Shelikof Strait 14,366 mt.

In accordance with § 679.25(a)(2)(i)(B), the Administrator, Alaska Region, NMFS (Regional Administrator), is adjusting the interim TAC for pollock in the W/C GOA based on the best available scientific information and a determination that the current interim TACs are incorrectly specified.

On January 20, 2000, NFMS stock assessment scientists developed a revised procedure for more accurately allocating the pollock interim TAC by time and area in the Western and Central Regulatory areas as authorized under the emergency interim rule implementing Steller sea lion protection measure. To allocate TAC in Shelikof Strait the revised procedure uses the most recent winter Shelikof Strait acoustic survey (1998) and updated 1998 estimates of GOA pollock biomass west of 140° W. long. For the three areas outside of Shelikof Strait (Statistical area 610, Statistical area 620 outside Shelikof Strait, and Statistical area 630 outside Shelikof Strait) the distribution of pollock biomass is averaged from the last four summer surveys. The method of using the average distribution from the last four summer trawl surveys for purposes of spatial allocation was advocated by the Gulf of Alaska Groundfish Plan Team, reflected in the annual Stock Assessment and Fishery Evaluation (SAFE) report dated November 1999, and accepted by the North Pacific Fishery Management Council's Scientific and Statistical Committee. However, the revised procedure distinguishes the management areas inside and outside Shelikof Strait more accurately than the previous method used to determine the allocation of TAC among areas of the W/C GOA under the interim harvest specification published with the emergency rule implementing Steller sea lion protection measures (65 FR 3892, January 25, 2000).

Based upon this information the Regional Administrator has determined that the current interim pollock TACs specified for the W/C GOA are incorrect. He is correcting the estimate of total GOA pollock biomass west of 140° W. long. from 933,000 mt to 958,000 mt as reflected in the most recent SAFE report, dated November 1999. After the interim harvest amount for the Shelikof Strait is calculated using the procedure set forth in the emergency rule implementing the Steller sea lion protection measures, the remainder of the combined W/C GOA pollock TAC is apportioned to those areas outside the Shelikof Strait as described above. This results in percentage apportionments of the remainder of the combined W/C GOA pollock TAC equal to 56.09 percent, 4.08 percent, and 39.83 percent to Statistical areas 610, 620 (outside Shelikof Strait), and 630 (outside Shelikof Strait), respectively. Table 5 in the emergency rule implementing Steller Sea lion protection measures specified interim pollock TACs for the W/C GOA and is accordingly corrected to read:

Table 5.—Revised First Seasonal Allowances of Pollock in the Western (W) and Central (C) Regulatory Areas of the Gulf of Alaska (GOA)
Area | A season interim TAC (mt)
Species: Pollock ¹
W (610) | 7,498
C (620 outside Shelikof Strait) | 546
C (630 outside Shelikof Strait) | 5,325
Shelikof Strait | 13,991
Total | 27,360
¹ The pollock catch limit for the Shelikof Strait conservation zone is determined by calculating the ratio of the most recent estimate of pollock biomass in Shelikof Strait (489,900 mt) divided by the most recent estimate of total pollock biomass in the GOA (958,000 mt). This ratio is then multiplied by the pollock TAC in the A season for the combined Western and Central areas of the GOA (27,360 mt). The remainder of the combined W/C TAC in the A Season is apportioned among Regulatory Areas 610, 620, and 630 outside the Shelikof Strait based on the distribution of pollock outside the Shelikof Strait; 56.09%, 4.08%, and 39.83% respectively.

Classification

The Assistant Administrator for Fisheries, NOAA, finds for good cause that providing prior notice and public comment or delaying the effective date of this action is impracticable and contrary to the public interest. Without this inseason adjustment, the current interim seasonal allocation of pollock TAC would promote an improper distribution of the fishery. Under § 679.25(c)(2), interested persons are invited to submit written comments on this action to the above address until February 17, 2000.

This action is required by §§ 679.20 and 679.25 and is exempt from review under E.O. 12866.

Authority: 16 U.S.C. 1801 et seq.

Dated: January 27, 2000.
Bruce C. Morehead,
Acting Director, Office of Sustainable Fisheries, National Marine Fisheries Service.

[FR Doc. 00-2165 Filed 1-27-00; 5:01 pm]

BILLING CODE 3510-22-P